DEPARTMENT OF THE INTERIOR

Bureau of Land Management

[OR-025-02-1430-NJ: GPO 2-0136]

Realty Sale of Public Land in Harney County, OR

AGENCY: Bureau of Land Management (BLM), Burns District.

ACTION: Notice of realty action, sale of public land.

SUMMARY: The following public land is being considered for sale at the appraised fair market value, under section 203 of the Federal Land Policy and Management Act (FLPMA) of 1976 (90 Stat. 2750, 43 U.S.C. 1713).

Willamette Meridian

T. 22 S., R. 30 E.,

Section 23, lot 13.

Comprising 2.10 acres.

The following rights, reservations, and conditions will be included on the patents conveying the land:

A reservation for a right-of-way for ditches and canals constructed thereon by the authority of United States.

This land is being considered for direct sale to the adjacent landowner, Glen and Sharon Catterson, to resolve a long-term unintentional trespass. The encroachment involves portions of outbuildings and corrals that were inadvertently placed over the property line. Federal regulations describe procedures to address unauthorized use which include provisions to reimburse BLM for administrative costs.

The affected public land has been surveyed and includes an area measuring 2.10 acres. This configuration would minimize impacts to public resources, include all private improvements, and provide enough land to satisfy County set back requirements and the County road right-of-way.

The buyer has expressed an interest to obtain the Federal mineral estate which is offered under the authority of section 209(b) of the FLPMA of 1976. In addition to the fair market price, a nonrefundable fee of $50 is necessary to purchase the mineral estate which would be conveyed simultaneously with the sale of the land.

The land described is segregated from appropriation under the public land laws, including the mining laws, pending disposition of this action or 270 days from the date of publication of this notice, whichever occurs first.

DATES: This office has prepared Documentation of Land Use Plan Conformance and National Environmental Policy Act Adequacy to evaluate the proposal. On or before May 28, 2002, interested persons may submit comments. In the absence of any objections, this proposal will become the determination of the Department of the Interior.

ADDRESSES: Comments should be submitted to the Acting Three Rivers Resource Area Field Manager, 28910 Hwy 20 West, Hines, Oregon 97738.

FOR FURTHER INFORMATION CONTACT: Detailed information concerning this public land sale is available from Holly Griebel LaChapelle, Land Law Examiner, at the above address, phone (541) 573-4501.

Dated: March 6, 2002.
Rudolph J. Hefter,
Acting Three Rivers Resource Area Field Manager.

[FR Doc. 02-8877 Filed 4-11-02; 8:45 am]

BILLING CODE 4310-33-P